DEPARTMENT OF COMMERCE

International Trade Administration

[C-533-888, C-570-105]

Carbon and Alloy Steel Threaded Rod From India and the People's Republic of China: Final Results of the Expedited First Sunset Review of the Countervailing Duty Orders

AGENCY: Enforcement and Compliance, International Trade Administration, Department of Commerce.

SUMMARY: The U.S. Department of Commerce (Commerce) finds that revocation of the countervailing duty (CVD) orders on carbon and alloy steel threaded rod (steel threaded rod) from India and the People's Republic of China (China) would likely lead to the continuation or recurrence of countervailable subsidies, and material injury to an industry in the United States, Commerce is publishing a notice of continuation of these CVD orders.

DATES: Applicable March 11, 2025.

FOR FURTHER INFORMATION CONTACT: Charles Hooker, Trade Agreements Policy and Negotiations, Enforcement and Compliance, International Trade Administration, U.S. Department of Commerce, 1401 Constitution Avenue NW, Washington, DC 20230; telephone: (202) 482-6299.

SUPPLEMENTARY INFORMATION:

Background

On April 9, 2020, Commerce published in the Federal Register the CVD orders on carbon and alloy steel threaded rod from India and China.¹ On November 4, 2024, Commerce published the notice of initiation of the first sunset review of the Orders, pursuant to section 751(c)(2) of the Tariff Act of 1930, as amended (the Act).² On November 19, 2024, Commerce received notices of intent to participate from Vulcan Threaded Products, inc., the domestic interested party, within the 15-day deadline specified in 19 CFR 351.218(d)(1)(i).³ The domestic interested party claimed interested party status under section 771(9)(C) of the Act as a producer of the domestic like product in the United States.⁴ On December 2, 2024, Commerce received an adequate substantive response from the domestic interested party within the 30-day deadline specified in 19 CFR 351.218(d)(3)(i).⁵ Commerce received no substantive response from the Governments of China or India or any respondent interested party.

¹ See Carbon and Alloy Steel Threaded Rod from India and the People's Republic of China Countervailing Duty Orders, 85 FR 19927 (April 9, 2020) (India Order and China Order; collectively, Orders).

² See Initiation of Five-Year (Sunset) Reviews, 89 FR 87543 (November 4, 2024).

³ See Domestic Interest Party's Letters, “Five-Year (Sunset) Review of the Countervailing Duty Order on Carbon and Alloy Steel Threaded Rod from India—Petitioner's Notice of Intent to Participate,” dated November 19, 2024 (Intent to Participate—India); and “Five-Year (Sunset) Review of the Countervailing Duty Order on Carbon and Alloy Steel Threaded Rod from the People's Republic of China—Petitioner's Notice of Intent to Participate,” dated November 19, 2024 (Intent to Participate—China).

⁴ See Intent to Participate—India at 2; see also Intent to Participate—China at 2.

⁵ See Domestic Interested Party's Letters, “First Five-Year (“Sunset”) Review of the Countervailing Duty Order on Carbon and Alloy Steel Threaded Rod from India—Petitioner's Substantive Response to Notice of Initiation,” dated December 2, 2024 (Substantive Response—India); see also “First Five-Year (“Sunset”) Review of the Countervailing Duty Order on Carbon and Alloy Steel Threaded Rod from the People's Republic of China—Petitioner's Substantive Response to Notice of Initiation,” dated December 2, 2024 (Substantive Response—China).

On December 26, 2024, Commerce notified the U.S. International Trade Commission that it did not receive an adequate substantive response from the Government of China or India or any respondent interested party.⁶ As a result, Commerce conducted an expediated (120-day) sunset review of the Orders, pursuant to section 751(c)(3)(B) of the Act and 19 CFR 351.218(e)(1)(ii)(B)(2) and (C)(2).

⁶ See Commerce's Letter, “Sunset Reviews Initiated on November 4, 2024,” dated December 26, 2024.

Scope of the Orders

The merchandise covered by the Orders is carbon and alloy steel threaded rod from India and China. For a complete description of the scope of the Orders, see the Issues and Decision Memorandum.⁷

⁷ See Memorandum, “Issues and Decision Memorandum for the Final Results of the Expediated First Sunset Review of the Countervailing Duty Order on Carbon and Alloy Steel Threaded Rod from India and the People's Republic of China,” dated concurrently with, and hereby adopted by, this notice (Issues and Decision Memorandum).

Analysis of Comments Received

A complete discussion of all issues raised in this sunset review is contained in the accompanying Issues and Decision Memorandum.⁸ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

⁸ Id.

Final Results of Sunset Reviews

Pursuant to sections 751(c) and 752(b) of the Act, Commerce determines that the revocation of the India Order would likely lead to continuation or recurrence of countervailable subsidies at the following net countervailable subsidy rates:

Producers/exporters | Net countervailable subsidy rate (percent ad valorem)
Daksh Fasteners | 211.72
Mangal Steel Enterprises Limited | 6.07
All Others | 6.07

Pursuant to sections 751(c) and 752(b) of the Act, Commerce determines that the revocation of the China Order would be likely to lead to continuation or recurrence of countervailable subsidies at the following net countervailable rates:

Producers/exporters | Net countervailable subsidy rate (percent ad valorem)
Ningbo Zhongjiang High Strength Bolts Co., Ltd | 69.20
Zhejiang Junyue Standard Part Co., Ltd | 31.20
All Others | 42.70

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results in accordance with sections 751(c), 752(b), and 777(i)(1) of the Act, and 19 CFR 351.221(c)(5)(ii).

Dated: March 4, 2025.
Christopher Abbott,
Deputy Assistant Secretary, for Policy and Negotiations, performing the non-exclusive functions and duties of the Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of a Countervailable Subsidy

2. Net Countervailable Subsidy Rates Likely to Prevail

3. Nature of the Subsidies

VII. Final Results of Sunset Reviews

VIII. Recommendation

[FR Doc. 2025-03825 Filed 3-10-25; 8:45 am]

BILLING CODE 3510-DS-P